DEPARTMENT OF COMMERCE

National Telecommunications and Information Administration

Multistakeholder Process To Develop Consumer Data Privacy Code of Conduct Concerning Facial Recognition Technology

AGENCY: National Telecommunications and Information Administration, U.S. Department of Commerce.

ACTION: Notice of open meetings.

SUMMARY: The National Telecommunications and Information Administration (NTIA) will convene meetings of a privacy multistakeholder process concerning the commercial use of facial recognition technology. This Notice announces the meetings to be held in February, March, April, May, and June 2014. The first meeting is scheduled for February 6, 2014.

DATES: The meetings will be held on February 6, 2014; February 25, 2014; March 25, 2014; April 8, 2014; April 29, 2014; May 20, 2014; June 3, 2014; and June 24, 2014 from 1 p.m. to 5:00 p.m., Eastern Time. See Supplementary Information for details.

ADDRESSES: The meetings will be held in the Boardroom at the American Institute of Architects, 1735 New York Avenue NW., Washington, DC 20006.

FOR FURTHER INFORMATION CONTACT: John Verdi, National Telecommunications and Information Administration, U.S. Department of Commerce, 1401 Constitution Avenue NW., Room 4725, Washington, DC 20230; telephone (202) 482-8238; email jverdi@ntia.doc.gov. Please direct media inquiries to NTIA's Office of Public Affairs, (202) 482-7002; email press@ntia.doc.gov.

SUPPLEMENTARY INFORMATION: Background: On February 23, 2012, the White House released Consumer Data Privacy in a Networked World: A Framework for Protecting Privacy and Promoting Innovation in the Global Digital Economy (the “Privacy Blueprint”).¹ The Privacy Blueprint directs NTIA to convene multistakeholder processes to develop legally enforceable codes of conduct that specify how the Consumer Privacy Bill of Rights applies in specific business contexts.² On July 12, 2012, NTIA convened the first multistakeholder process, in which stakeholders developed a code of conduct to provide transparency in how companies providing applications and interactive services for mobile devices handle personal data.³ On December 3, 2013, NTIA announced that the goal of the second multistakeholder process is to develop a code of conduct to protect consumers' privacy and promote trust regarding facial recognition technology in the commercial context.⁴ NTIA encourages stakeholders to address in the code all seven fair information practice principles enumerated in the Consumer Privacy Bill of Rights.

¹ The Privacy Blueprint is available at http://www.whitehouse.gov/sites/default/files/privacy-final.pdf.

² Id.

³ NTIA, First Privacy Multistakeholder Meeting: July 12, 2012, http://www.ntia.doc.gov/other-publication/2012/first-privacy-multistakeholder-meeting-july-12-2012 NTIA, Privacy Multistakeholder Process: Mobile Application Transparency, http://www.ntia.doc.gov/other-publication/2013/privacy-multistakeholder-process-mobile-application-transparency.

⁴ NTIA, Facial Recognition Technology, http://www.ntia.doc.gov/other-publication/2013/privacy-multistakeholder-process-facial-recognition-technology.

Matters to Be Considered: The February 6, 2014 meeting will be the first in a series of NTIA-convened multistakeholder discussions concerning facial recognition technology. Subsequent meetings will follow on February 25, 2014; March 25, 2014; April 8, 2014; April 29, 2014; May 20, 2014; June 3, 2014; and June 24, 2014. Stakeholders will engage in an open, transparent, consensus-driven process to develop a code of conduct regarding facial recognition technology.

The objective of the February 6, 2014, meeting is to convene a factual, stakeholder-driven dialogue regarding the technical capabilities and commercial uses of facial recognition technology. This dialogue will likely involve a series of discussion panels and Q&A sessions featuring knowledgeable stakeholders from industry, civil society, and academia. This first meeting is intended to provide stakeholders with factual background regarding how facial recognition technology is currently used by businesses, how the technology might be employed in the near future, and what privacy issues might be raised by the technology. NTIA will publish a draft agenda on December 20, 2013 and a final agenda on January 17, 2014.

The objectives of the February 25, 2014 meeting are: 1) Begin discussion among stakeholders concerning a code of conduct that sets forth privacy practices for facial recognition technology (this discussion may include circulation of straw-man drafts and discussion of the appropriate scope of a code); and 2) provide a venue for stakeholders to agree on the procedural work plan for the group (this might include establishing working groups, drafting procedures, and/or modifying the logistics of future meetings).

The March 25, 2014; April 8, 2014; April 29, 2014; May 20, 2014; June 3, 2014; and June 24, 2014 meetings are intended to serve as venues for stakeholders to discuss, draft, revise, and finalize a privacy code of conduct that sets forth privacy practices for facial recognition technology. NTIA suggests that stakeholders consider “freezing” the draft code of conduct after the June 24, 2014 meeting in order to facilitate external review of the draft. Stakeholders would then likely reconvene the group in September to take account of external feedback. More information about stakeholders' work will be available at: http://www.ntia.doc.gov/other-publication/2013/privacy-multistakeholder-process-facial-recognition-technology.

Time and Date: NTIA will convene meetings of the privacy multistakeholder process regarding facial recognition technology on February 6, 2014; February 25, 2014; March 25, 2014; April 8, 2014; April 29, 2014; May 20, 2014; June 3, 2014; and June 24, 2014, from 1:00 p.m. to 5:00 p.m., Eastern Time. The meeting dates and times are subject to change. The meetings are subject to cancelation if stakeholders complete their work developing a code of conduct. Please refer to NTIA's Web site, http://www.ntia.doc.gov/other-publication/2013/privacy-multistakeholder-process-facial-recognition-technology, for the most current information.

Place: The meeting will be held in the Boardroom at the American Institute of Architects, 1735 New York Avenue NW., Washington, DC 20006. The location of the meetings is subject to change. Please refer to NTIA's Web site, http://www.ntia.doc.gov/other-publication/2013/privacy-multistakeholder-process-facial-recognition-technology, for the most current information.

Other Information: The meetings are open to the public and the press. The meetings are physically accessible to people with disabilities. Requests for sign language interpretation or other auxiliary aids should be directed to John Verdi at (202) 482-8238 or jverdi@ntia.doc.gov at least seven (7) business days prior to each meeting. The meetings will also be webcast. Requests for real-time captioning of the webcast or other auxiliary aids should be directed to John Verdi at (202) 482-8238 or jverdi@ntia.doc.gov at least seven (7) business days prior to each meeting. There will be an opportunity for stakeholders viewing the webcast to participate remotely in the meetings through a moderated conference bridge, including polling functionality. Access details for the meetings are subject to change. Please refer to NTIA's Web site, http://www.ntia.doc.gov/other-publication/2013/privacy-multistakeholder-process-facial-recognition-technology, for the most current information.

Dated: December 3, 2013.
Kathy Smith,
Chief Counsel, National Telecommunications and Information Administration.

[FR Doc. 2013-29157 Filed 12-5-13; 8:45 am]

BILLING CODE 3510-60-P